DEPARTMENT OF ENERGY

Federal Energy Regulatory Commission

Combined Notice of Filings

Take notice that the Commission has received the following Natural Gas Pipeline Rate and Refund Report filings:

Filings Instituting Proceedings

Docket Numbers: RP14-1122-000.

Applicants: Natural Gas Pipeline Company of America.

Description: FPLE Forney Neg Rate to be effective 8/1/2014.

Filed Date: 7/24/14.

Accession Number: 20140724-5037.

Comments Due: 5 p.m. ET 8/5/14.

Docket Numbers: RP14-1123-000.

Applicants: Dauphin Island Gathering Partners.

Description: Dauphin Island Gathering Partners' 2014 Cash Out Refund Report.

Filed Date: 7/25/14.

Accession Number: 20140725-5012.

Comments Due: 5 p.m. ET 8/6/14.

Docket Numbers: RP14-1124-000.

Applicants: Wyckoff Gas Storage Company, LLC.

Description: Order to Show Cause Compliance Filing.

Filed Date: 7/25/14.

Accession Number: 20140725-5018.

Comments Due: 5 p.m. ET 8/6/14.

Docket Numbers: RP14-1125-000.

Applicants: Centra Pipelines Minnesota, Inc.

Description: Petition for Approval of Settlement of Centra Pipelines Minnesota, Inc.

Filed Date: 7/25/14.

Accession Number: 20140725-5142.

Comments Due: 5 p.m. ET 8/6/14.

Docket Numbers: RP14-1126-000.

Applicants: East Tennessee Natural Gas, LLC.

Description: Duke Energy k410135 2014-11-01 Release to be effective 11/1/2014.

Filed Date: 7/28/14.

Accession Number: 20140728-5044.

Comments Due: 5 p.m. ET 8/11/14.

Docket Numbers: RP14-1127-000.

Applicants: East Tennessee Natural Gas, LLC.

Description: Duke Energy k410135 2015-04-01 Release to be effective 4/1/2015.

Filed Date: 7/28/14.

Accession Number: 20140728-5045.

Comments Due: 5 p.m. ET 8/11/14.

Docket Numbers: RP14-1128-000.

Applicants: East Tennessee Natural Gas, LLC.

Description: Duke Energy k410135 2015-11-01 Release to be effective 11/1/2015.

Filed Date: 7/28/14.

Accession Number: 20140728-5046.

Comments Due: 5 p.m. ET 8/11/14.

Docket Numbers: RP14-1129-000.

Applicants: East Tennessee Natural Gas, LLC.

Description: Duke Energy k410135 2016-04-01 Release to be effective 4/1/2016.

Filed Date: 7/28/14.

Accession Number: 20140728-5047.

Comments Due: 5 p.m. ET 8/11/14.

Docket Numbers: RP14-1130-000.

Applicants: East Tennessee Natural Gas, LLC.

Description: Duke Energy k410135 2016-11-01 Release to be effective 11/1/2016.

Filed Date: 7/28/14.

Accession Number: 20140728-5048.

Comments Due: 5 p.m. ET 8/11/14.

Docket Numbers: RP14-1131-000.

Applicants: East Tennessee Natural Gas, LLC.

Description: East Tennessee Natural Gas, LLC submits tariff filing per 154.204: Duke Energy k410135 2017-04-01 Release to be effective 4/1/2017.

Filed Date: 7/28/14.

Accession Number: 20140728-5049.

Comments Due: 5 p.m. ET 8/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated July 28, 2014.
Nathaniel J. Davis, Sr.,
Deputy Secretary.

[FR Doc. 2014-18314 Filed 8-1-14; 8:45 am]

BILLING CODE 6717-01-P